DEPARTMENT OF HEALTH AND HUMAN SERVICES

National Institutes of Health

Proposed Collection; 60-day Comment Request; Data Collection To Understand How NIH Programs Apply Methodologies To Improve Their Research Programs (MIRP)

SUMMARY: In compliance with the requirement of Section 3506(c)(2)(A) of the Paperwork Reduction Act of 1995, for opportunity for public comment on proposed data collection projects, National Institute of Allergy and Infectious Diseases, National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Ms. Dione Washington, Strategic Planning and Evaluation Branch, OSPIDA, NIAID, NIH, 6610 Rockledge Dr, Rm 2501 Bethesda, MD 20892-6620, or Email your request, including your address to washingtondi@niaid.nih.gov. Formal requests for additional plans and instruments must be requested in writing.

Comment Due Date: Comments regarding this information collection are best assured of having their full effect if received within 60 days of the date of this publication.

Proposed Collection: Data Collection to Understand How NIH Programs Apply Methodologies to Improve Their Research Programs (MIRP), 0925New, National Institute of Allergy and Infectious Diseases (NIAID), National Institutes of Health (NIH).

Need and Use of Information Collection: In this submission, NIAID is requesting an OMB generic clearance for formative research activities relating to the collection of data to assist the Institute in understanding the usefulness of a range of methodologies that are employed to increase organizational effectiveness. The Office of Management and Budget (OMB) and Office of Science and Technology Policy (OSTP) have instructed agencies to apply rigorous strategy management principles to ensure resources are directed at high-priority programs and avoid duplication of effort. A key aspect to ensuring resources dedicated to these programs are applied efficiently and effectively is to understand how NIH research programs apply methodologies to improve their organizational effectiveness. The degree of an organization's effectiveness is commonly recognized to be influenced by many factors. These can include the clarity of its purpose and strategy, how it allocates and structures its work, the processes used to carry out operations, the way technologies are used to support work, the people involved and their skills and abilities, the way relationships are managed with partners and stakeholders, and how leadership functions, particularly in terms of its ability to ensure that all the other components are aligned in supporting work towards the mission. Many methodologies are commonly employed in all sectors, including government, with the goal of increasing organizational effectiveness. Some examples of those used widely are strategic planning and strategy management, total quality management, change management, organizational assessment and intervention, organizational design, process improvement, leadership development, performance management, and workforce training and professional development, among others. There are many models and approaches to each of these methodologies. Each one can be implemented in a wide range of ways. Reflection on and learning from methodologies that have been used and the ways in which they have been employed is critical to continually ensuring that government functions effectively.

The primary use for information gathered through voluntary survey pilot testing, surveys, focus groups, interviews, and collaborative data interpretation meetings to understand the use of strategy management in research programs supported by the NIH. The information will improve approaches to implementing strategic management, which will lead to more efficient use of resources. Results gathered in these data will be used to enhance implementation of methodologies to improve organizational effectiveness. The main goal of this information is to improve program outcomes and increase the efficiency of resource utilization. The knowledge gained from these collections will be used to strengthen the planning, implementation, and monitoring of NIH research programs, as well as to strengthen strategy management in NIH research programs.

The questions asked, and the data to be collected are rooted in established business-based paradigms but specifically adapted for use (and relevance) in a biomedical research environment, in order to discern: (1) Factors that enhance (or inhibit) organizational effectiveness in research programs; (2) utility and acceptance of these kinds of efforts among biomedical researchers and research stakeholders. The results from this formative research project will inform quality improvement activities in several areas, including goal setting, capability and resource evaluation, operational efficiency, and performance monitoring. Utilized data collection methodologies will be administered in a manner that minimizes public information collection burden. These include, but are not limited to, surveys, focus groups, and/or cognitive interviews. Separate and distinct generic clearances are requested to facilitate the efficiency of submission and review of these projects as required by the OMB Office of Information and Regulatory Affairs.

OMB approval is requested for 3 years. There are no costs to respondents other than their time. The total estimated annualized burden hours are 4775.

Estimated Annualized Burden Hours
Form name | Type of respondent | Number of respondents | Number of responses per respondent | Average burden per response (in hours) | Total annual burden hour
Pilot Test | Science professional, researchers, institutional officials, network leadership, program administrators, and research site staff | 900 | 1 | 45/60 | 675
Survey |  | 2500 | 1 | 30/60 | 1250
Interview |  | 1000 | 1 | 90/60 | 1500
Focus group |  | 375 | 1 | 2/60 | 750
Data interpretation meeting with stakeholders |  | 150 | 1 | 4/60 | 600

Dated: August 22, 2013.
John McGowan,
Executive Officer (EO), OD, NIAID, NIH.

[FR Doc. 2013-21807 Filed 9-6-13; 8:45 am]

BILLING CODE 4140-01-P